SURFACE TRANSPORTATION BOARD

[Docket No. AB 1070 (Sub-No. 4X)]

Central Midland Railway Company—Discontinuance of Service Exemption—in Franklin County, Mo.

Central Midland Railway Company (CMRC) has filed a verified notice of exemption under 49 CFR. part 1152 subpart F—Exempt Abandonments and Discontinuances of Service to discontinue service over an approximately 9.71-mile rail line in Franklin County, Mo., between milepost 61.89 at Union and milepost 71.6 at Beaufort (the Line). The Line traverses U.S. Postal Service Zip Codes 63013 and 63084.

CMRC has certified that: (1) No local traffic has moved over the Line for at least two years; ¹ (2) any overhead traffic can be rerouted over other lines; (3) no formal complaint filed by a user of rail service on the Line (or a state or local government entity acting on behalf of such user) regarding cessation of service over the Line either is pending with the Surface Transportation Board or any U.S. District Court or has been decided in favor of a complainant within the two-year period; and (4) the requirements at 49 CFR 1105.12 (newspaper publication) and 49 CFR 1152.50(d)(1) (notice to governmental agencies) have been met.

¹ CMRC states that, although it has used the Line within the past two years for car storage for off-line shippers, such usage does not constitute traffic for purposes of qualification for the class exemption under 49 CFR 1152.50(b), citing Union Pacific Railroad—Abandonment Exemption—in Ada County, Idaho, Docket No. AB 33 (Sub-No. 137X), slip op. at 3 (STB served Aug. 6, 1999) (“It is well settled that use of a rail line to store rail cars for the convenience of off-line shippers or the railroad is not traffic originating or terminating on the line within the meaning of 49 CFR 1152.50(b).”).

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) ² to subsidize continued rail service has been received, this exemption will be effective on April 17, 2022, unless stayed pending reconsideration.³ Petitions to stay that do not involve environmental issues and formal expressions of intent to file an OFA to subsidize continued rail service under 49 CFR 1152.27(c)(2) ⁴ must be filed by March 28, 2022.⁵ Petitions for reconsideration must be filed by April 7, 2022.

² Persons interested in submitting an OFA to subsidize continued rail service must first file a formal expression of intent to file an offer, indicating the intent to file an OFA for subsidy and demonstrating that they are preliminarily financially responsible. See 49 CFR 1152.27(c)(2)(i).

³ CMRC states that it intends to consummate the discontinuance of the Line after April 19, 2022.

⁴ The filing fee for OFAs can be found at 49 CFR 1002.2(f)(25).

⁵ Because this is a discontinuance proceeding and not an abandonment, interim trail use/rail banking and public use conditions are not appropriate. Because there will be an environmental review during abandonment, this discontinuance does not require environmental review.

All pleadings, referring to Docket No. AB 1070 (Sub-No. 4X), should be filed with the Surface Transportation Board via e-filing on the Board's website. Additionally, a copy of each pleading filed with Board must be sent to CMRC's representative, Audrey E. Lane, Fletcher & Sippel LLC, 29 North Wacker Drive, Suite 800, Chicago, IL 60606-3208.

If the verified notice contains false or misleading information, the exemption is void ab initio.

Board decisions and notices are available at www.stb.gov.

Decided: March 15, 2022.
By the Board, Scott M. Zimmerman, Acting Director, Office of Proceedings.
Raina White,
Clearance Clerk.

[FR Doc. 2022-05741 Filed 3-17-22; 8:45 am]

BILLING CODE 4915-01-P